DEPARTMENT OF TRANSPORTATION

National Highway Traffic Safety Administration

[Docket No. NHTSA 2003-16699; Notice 1]

Michelin North America, Inc., Receipt of Petition for Decision of Inconsequential Noncompliance

Michelin North America, Inc. (Michelin), has determined that certain tires it manufactured do not comply with S4.3(d) of 49 CFR 571.109, Federal Motor Vehicle Safety Standard (FMVSS) No. 109, “New pneumatic tires.” Michelin has filed an appropriate report pursuant to 49 CFR Part 573, “Defect and Noncompliance Reports.”

Pursuant to 49 U.S.C. 30118(d) and 30120(h), Michelin has petitioned for an exemption from the notification and remedy requirements of 49 U.S.C. Chapter 301 on the basis that this noncompliance is inconsequential to motor vehicle safety.

This notice of receipt of Michelin's petition is published under 49 U.S.C. 30118 and 30120 and does not represent any agency decision or other exercise of judgment concerning the merits of the petition.

Michelin produced approximately 8,568 Michelin Pilot XGT H4 tires, size P195/65R15, whose sidewall labeling, on one side of the tire only, incorrectly describes the generic name of the cord material in one of the plies in the tread area. These tires were marked on one side indicating the Polyamide ply in the tread area is composed of Polyamide/Steel while they are actually composed of Polyamide only. Therefore, they do not comply with FMVSS No. 109 S4.3(d), which requires that “each tire shall have permanently molded into or onto both sidewalls . . . (d) The generic name of each cord material used in the plies (both sidewall and tread area) of the tire.”

Michelin believes that this noncompliance is inconsequential to motor vehicle safety. It asserts that in all other respects, the tires meet or exceed the requirements of FMVSS No. 109, including all of the performance requirements. It further asserts that the noncompliance with S4.3(d) will have no impact on the performance of the tire on a motor vehicle, or upon motor vehicle safety.

Michelin further states:

The Agency has consistently found that ply labeling noncompliances have an inconsequential effect on motor vehicle safety, and have regularly granted exemption petitions for similar ply labeling non-compliances. See e.g., 67 FR 1399 (January 10, 2002) finding use of word “Rayon” instead of “Polyester” inconsequential; 66 FR 63090 (December 4, 2001) finding understatement of number of plies inconsequential; 66 FR 49254 (September 26, 2001) finding overstatement of number of plies inconsequential; 66 FR 47518 (September 12, 2001) finding overstatement of number of plies inconsequential; and 66 FR 41931 (August 9, 2001) finding overstatement of number of plies inconsequential.

Michelin states that NHTSA recently reviewed the impact of tire label information on safety in the context of its rulemaking efforts under the Transportation Recall, Enhancement, Accountability and Documentation Act, and that the analysis concluded that tire construction information is not relied upon by dealers and consumers in the purchasing or selling of tires and has an inconsequential impact on motor vehicle safety. Michelin says that NHTSA's review included both a solicitation of comments on a proposed tire labeling rulemaking, and related focus group surveys. According to Michelin, commenters on NHTSA's Advanced Notice of Proposed Rulemaking issued on December 1, 2000 (65 FR 75222) indicated that the tire construction labeling requirements of FMVSS No. 109 S4.3(d) and (e) provide little or no safety value to the general public since most consumers do not understand tire construction technology. Michelin says the consumer focus groups found that very few consumers had any knowledge of tire information beyond the tire brand name, tire size, and tire pressure and did not have information or knowledge on the relationship between tire construction specifications and tire durability and strength. According to Michelin, NHTSA concluded from these comments and focus groups that it is likely that few consumers are influenced by the tire construction labeling information when making a motor vehicle or tire purchase decision, and that such information is not relied upon by consumers in evaluating the strength and durability of tires.

Interested persons are invited to submit written data, views, and arguments on the petition described above. Comments must refer to the docket and notice number cited at the beginning of this notice and be submitted by any of the following methods: Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be considered. All comments and supporting materials received after the closing date will also be filed and considered to the extent possible. When the petition is granted or denied, a notice of the decision will be published in the Federal Register pursuant to the authority indicated below.

Comment closing date: January 21, 2004.

Authority: (49 U.S.C. 301118, 301120; delegations of authority at CFR 1.50 and 501.8).

Kenneth N. Weinstein,
Associate Administrator for Enforcement.

[FR Doc. 03-31392 Filed 12-19-03; 8:45 am]

BILLING CODE 4910-59-P